DEPARTMENT OF VETERANS AFFAIRS

Advisory Committee: National Academic Affiliations Council, Notice of Meeting

The Department of Veterans Affairs (VA) gives notice under the Federal Advisory Committee Act, 5 U.S.C. 10, that a meeting of VA's National Academic Affiliations Council (NAAC) will be held March 22, 2023-March 23, 2023, at the Orlando VA Health Care System, 13800 Veterans Way, Orlando, FL 32827. The meeting sessions will begin and end as follows:

Dates | Times | Locations | Open to public
March 22, 2023 | 9:00 a.m. to 12:30 p.m. Eastern Standard Time (EST) | Orlando VA Health Care System, 13800 Veterans Way, Orlando, FL 32827 | Yes.
March 22, 2023 | 12:30 p.m. to 3:00 p.m. EST | Orlando VA Health Care System, 13800 Veterans Way, Orlando, FL 32827 | No.
March 22, 2023 | 3:00 p.m. to 4:00 p.m. EST | Orlando VA Health Care System, 13800 Veterans Way, Orlando, FL 32827 | Yes.

The meetings are open to the public, except when the NAAC is conducting tours of VA facilities. Tours of VA facilities are closed to protect Veterans' privacy and personal information, in accordance with 5 U.S.C. Sec. 552b(c)(6).

The purpose of the NAAC or “Council” is to advise the Secretary on matters affecting partnerships between VA and its academic affiliates.

On March 22, 2023, the Council will convene an open session from 9:00 a.m. to 12:30 p.m. EST. The agenda will include a presentation on Innovative Academic Relationships: A National Perspective. The Council will also have a presentation from VISN 8 and Orlando VA Health Care System on Academic Relationships and Accomplishments and receive updates from the Diversity and Inclusion Subcommittee, the Strategic Academic Advisory Council (SAAC), and VA's Electronic Health Record Modernization Work Group related to education and research. In the afternoon, the Council will begin the closed portion of the meeting from 12:30 p.m. to 3:00 p.m. EST, as it tours the Orlando VA Health Care System. Tours of VA facilities are closed to protect Veterans' privacy and personal information, in accordance with 5 U.S.C. Sec. 552b(c)(6). The Council will reconvene at 3:00 p.m. for discussions and recommendations. The meeting will adjourn day one at 4:00 p.m.

On March 23, 2023, at 12:00 p.m. EST, the Council will reconvene for day two. The day two agenda includes a panel discussion with Orlando VA Health Care System leadership and trainees related to Diversity in Trainee Recruitment and Retention. The Council will have a question-and-answer session, followed by Council discussions and recommendations. The Council will receive public comments from 1:15 p.m. to 1:30 p.m. EST and will adjourn the meeting at 1:45 p.m. EST.

Interested persons may attend and present oral statements to the Council. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting, or at any time via email to Larissa.Emory@va.gov. Any member of the public wishing to attend or seeking additional information should contact Ms. Emory via email or by phone at (915) 269-0465. Because the meeting will be held in a government building, anyone attending must be prepared to submit to security screening and present a valid photo I.D. Please allow at least 30 minutes prior to the meeting for this process.

Dated: February 8, 2023.
Jelessa M. Burney,
Federal Advisory Committee Management Officer.

[FR Doc. 2023-03083 Filed 2-13-23; 8:45 am]

BILLING CODE P